DEPARTMENT OF HOMELAND SECURITY

Coast Guard

[USCG-2006-23696]

Towing Safety Advisory Committee

AGENCY: Coast Guard, DHS.

ACTION: Notice of meetings.

SUMMARY: The Towing Safety Advisory Committee (TSAC) and its working groups will meet as required to discuss various issues relating to shallow-draft inland and coastal waterway navigation and towing safety. All meetings will be open to the public.

DATES: TSAC will meet on Thursday, March 2, 2006, from 8 a.m. to 3:30 p.m. The Towing Vessel Inspection Working Group will meet on Tuesday, February 28, 2006, from 9 a.m. to 4:30 p.m. The Towing Vessel Inspection Working Group will meet again on Wednesday, March 1, 2006, from 8:30 a.m. to 2:30 p.m. followed by a general plenary meeting, to discuss the status of other working groups, until 5 p.m. These meetings may close early if all business is finished. Written material for and requests to make oral presentations at the meetings should reach the Coast Guard on or before February 21, 2006. Requests to have a copy of your material distributed to each member of the Committee or working groups prior to the meetings should reach the Coast Guard on or before February 15, 2006.

ADDRESSES: TSAC will meet in Room 2415, U.S. Coast Guard Headquarters, 2100 Second Street, SW., Washington, DC 20593-0001. The working group will first meet in the same room and then, if necessary, move to separate spaces designated at that time. Send written material and requests to make oral presentations to Mr. Gerald P. Miante, U.S. Coast Guard Headquarters, G-PSO-1, Room 1210, 2100 Second Street, SW., Washington, DC 20593-0001. This notice and related documents are available on the Internet at http://dms.dot.gov under the docket number USCG-2006-23696.

FOR FURTHER INFORMATION CONTACT: Mr. Gerald P. Miante, Assistant Executive Director, telephone 202-267-0214, fax 202-267-4570, or e-mail at: gmiante@comdt.uscg.mil.

SUPPLEMENTARY INFORMATION: Notice of these meetings is given under the Federal Advisory Committee Act, 5 U.S.C. App. 2 (Pub. L. 92-463, 86 Stat. 770, as amended).

Agenda of Committee Meeting

The agenda includes the following items:

(1) Status Report of the Commercial/Recreational Boating Interface Working Group;

(2) Status Report of the Mariner Deaths during Nighttime Barge Fleeting Operations Working Group;

(3) Status Report of the International Convention on Standards of Training, Certification and Watchkeeping for Seafarers, 1978, as amended (STCW) Implementation Working Group;

(4) Status Report of the Towing Vessel Inspection Working Group;

(5) Status Report of the Licensing Implementation Working Group;

(6) Status Report of the Towing Vessel Horsepower Working Group;

(7) Status Report of the Towing Vessel Bridge Visibility Working Group; and

(8) Presentation of a Draft Task Statement on Review of the AV Kastner/Buchanan 14/Swift Collision

Procedural

All meetings are open to the public. Please note that the meetings may close early if all business is finished. Members of the public may make oral presentations during the meetings. If you would like to make an oral presentation at a meeting, please notify the Assistant Executive Director no later than February 21, 2006. Written material for distribution at a meeting should reach the Coast Guard no later than February 21, 2006. If you would like a copy of your material distributed to each member of the Committee or Working Groups in advance of a meeting, please submit 20 copies to the Assistant Executive Director no later than February 15, 2006. You may also submit this material electronically to the e-mail address in FOR FURTHER INFORMATION CONTACT, no later than February 21, 2006. Also, at the Chair's discretion, members of the public may present comment at the end of the Public Meeting. Please understand that the Committee's schedule may be quite demanding and time for public comment may be limited.

Information on Services for Individuals With Disabilities

For information on facilities or services for individuals with disabilities or to request special assistance at the meetings, contact the Assistant Executive Director as soon as possible.

Dated: January 25, 2006.
H.L. Hime,
Acting Director of Prevention Standards.

[FR Doc. E6-1247 Filed 1-31-06; 8:45 am]

BILLING CODE 4910-15-P